DEPARTMENT OF HOUSING AND URBAN DEVELOPMENT

[Docket No. FR-6001-N-05]

60-Day Notice of Proposed Information Collection: Comment Request; Condominium Project Approval Document Collection

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: April 17, 2017.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Elissa Saunders, Director, Office of Single Family Program Development, HUP; Collette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Condominium Project Approval Document Collection.

OMB Approval Number: 2502-0610.

Type of Request: Revision of current collection.

Form Number: HUD-92541; HUD-935.2c; HUD 93201; and HUD-92544.

Description of the need for the information and proposed use:

The Housing and Economic Recovery Act of 2008 (HERA) moved the insurance of a single unit condominium from Section 234 to Section 203 of the National Housing Act (NHA). This change required that HUD establish new regulations for condominium project and unit approval. To approve a project and/or insure a unit within an FHA-approved project, certain documentation and data are required for review and approval or denial. Therefore, requiring a specific collection item is appropriate. Further, the information collected will be used for performance, risk, market trending, and other analyses.

Respondents (i.e., affected public): Mortgagees, Condominium Associations, Builders, Developers, Attorneys, Management Companies, Project Consultants.

Estimated Number of Respondents: 10,000.

Estimated Number of Responses: 10,000.

Frequency of Response: Biennially.

Average Hours per Response: 3.

Total Estimated Burdens: $3,173,000.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: February 6, 2017.
Genger M. Charles,
General Deputy Assistant Secretary for Housing—Federal Housing Commissioner.

[FR Doc. 2017-02936 Filed 2-13-17; 8:45 am]

BILLING CODE 4210-67-P